DEPARTMENT OF THE TREASURY

Internal Revenue Service

26 CFR Parts 1 and 301

[TD 9988]

RIN 1545-BQ63

Elective Payment of Applicable Credits

Correction

In rule document 2024-04604, beginning on page 17546, in the issue of Monday, March 11, 2024, the title is corrected to read as set for above.

[FR Doc. C1-2024-04604 Filed 4-15-24; 8:45 am]

BILLING CODE 0099-10-D